DEPARTMENT OF HOMELAND SECURITY

Coast Guard

33 CFR Part 151

[Docket No. USCG-2014-0410]

RIN 1625-AC13

Navigation and Navigable Waters; Technical, Organizational, and Conforming Amendments

AGENCY: Coast Guard, DHS.

ACTION: Final rule; correction.

SUMMARY: The Coast Guard published a final rule in the Federal Register on July 7, 2014, that made non-substantive corrections throughout Title 33 of the Code of Federal Regulations. One of the amendatory instructions, which was intended to update a mailing stop number, contained a reference to the wrong paragraph in a section. This rule corrects that error.

DATES: Effective on July 28, 2014.

FOR FURTHER INFORMATION CONTACT: Mr. Paul Crissy, U.S. Coast Guard, telephone 202-372-1093; email Paul.H.Crissy@uscg.mil.

SUPPLEMENTARY INFORMATION:

Viewing Documents Associated With This Rule

To view the original rule, go to http://www.regulations.gov, type the docket number in the “SEARCH” box and click “SEARCH.” Click on Open Docket Folder on the line associated with this reulemaking. You may also visit the Docket Management Facility in Room W12-140 on the ground floor of the Department of Transportation West Building, 1200 New Jersey Avenue SE., Washington, DC 20590, between 9 a.m. and 5 p.m., Monday through Friday, except Federal holidays.

Background

On July 7, 2014, the Coast Guard published its annual technical amendment final rule (79 FR 38422) to make non-substantive changes to Title 33 of the Code of Federal Regulations.

Need for Correction

In attempting to amend 33 CFR 151.66(c)(3)(iv)(C) to reflect the correct mail stop for Commandant (CG-OES), we mistakenly referred to paragraph (d)(3)(iv)(C) in amendatory instruction 106 on page 79 FR 38435 of that rule. This rule corrects that error by amending the correct paragraph.

List of Subjects in 33 CFR Part 151

Administrative practice and procedure, Oil pollution, Penalties, Reporting and recordkeeping requirements, Water pollution control.

Accordingly, 33 CFR part 151 is corrected by making the following correcting amendment:

PART 151—VESSELS CARRYING OIL, NOXIOUS LIQUID SUBSTANCES, GARBAGE, MUNICIPAL OR COMMERCIAL WASTE, AND BALLAST WATER

1. The authority citation for part 151 continues to read as follows:

Authority: 33 U.S.C. 1321, 1902, 1903, 1908; 46 U.S.C. 6101; Pub. L. 104-227(110 Stat. 3034); Pub. L. 108-293 (118 Stat. 1063), § 623; E.O. 12777, 3 CFR, 1991 Comp. p. 351; 322; DHS Delegation No. 0170.1, sec. 2(77).

§ 151.66 [Amended]

2. In § 151.66(c)(3)(iv)(C), remove the text “Stop 7126” and add, in its place, the text “Stop 7509”.

Dated: July 22, 2014.
Katia Cervoni,
Chief, Office of Regulations and Administrative Law, U.S. Coast Guard.

[FR Doc. 2014-17687 Filed 7-25-14; 8:45 am]

BILLING CODE 9110-04-P